DEPARTMENT OF COMMERCE

National Oceanic and Atmospheric Administration

50 CFR Part 622

[Docket No. 040205043-4043-01]

RIN 0648-XA360

Fisheries of the Caribbean, Gulf of Mexico, and South Atlantic; Snapper-Grouper Fishery of the South Atlantic; Reopening of the Commercial Sector for Vermilion Snapper in the South Atlantic

AGENCY: National Marine Fisheries Service (NMFS), National Oceanic and Atmospheric Administration (NOAA), Commerce.

ACTION: Temporary rule; reopening.

SUMMARY: NMFS reopens the commercial sector for South Atlantic vermilion snapper in the exclusive economic zone (EEZ). NMFS previously determined the quota for the commercial sector would be reached by March 10, 2011, and closed the commercial sector for vermilion snapper in the South Atlantic. The latest estimates for landings indicate the quota was not reached by that date. Consequently, NMFS will reopen the commercial sector for 7 days. The purpose of this action is to allow the commercial sector to maximize harvest benefits and at the same time protect the vermilion snapper resource.

DATES: The reopening is effective 12:01 a.m., local time, May 1, 2011, until 12:01 a.m., local time, on May 8, 2011. The commercial sector will then be closed until the end of the current fishing period, 12:01 a.m., local time, July 1, 2011.

FOR FURTHER INFORMATION CONTACT: Catherine Bruger, telephone 727-824-5305, fax 727-824-5308, e-mail Catherine.Bruger@noaa.gov.

SUPPLEMENTARY INFORMATION: The snapper-grouper fishery of the South Atlantic is managed under the Fishery Management Plan for the Snapper-Grouper Fishery of the South Atlantic Region (FMP). The FMP was prepared by the South Atlantic Fishery Management Council (Council) and is implemented under the authority of the Magnuson-Stevens Fishery Conservation and Management Act (Magnuson-Stevens Act) by regulations at 50 CFR part 622.

The commercial quota for vermilion snapper in the South Atlantic is 315,523 lb (143,119 kg) for the current fishing period, January 1 through June 30, 2011, as specified in 50 CFR 622.42(e)(4)(i).

Under 50 CFR 622.43(a)(5), NMFS is required to close the commercial sector for a species or species group when the quota for that species or species group is reached, or is projected to be reached, by filing a notification to that effect with the Office of the Federal Register. NMFS projected the commercial sector for vermilion snapper in the South Atlantic would reach the quota on, or before, March 10, 2011, and closed the commercial sector on that date (76 FR 12883, March 9, 2011). However, based on current statistics, NMFS has determined that only 83 percent of the available commercial quota was landed by that date. Based on daily landings rates and the pounds remaining on the quota (approximately 53,120 lb (24,095 kg)), NMFS has determined the commercial sector can reopen for 7 days. Accordingly, NMFS is reopening the commercial sector for vermilion snapper in the South Atlantic from 12:01 a.m., local time, on May 1, 2011, until 12:01 a.m., local time, on May 8, 2011. The commercial sector will then be closed until 12:01 a.m., local time, July 1, 2011. May 1, 2011, was chosen as the reopening day for the commercial sector based on feedback from the fishing industry and expected weather conditions, which indicated that this was the best time to reopen.

The operator of a vessel with a valid commercial vessel permit for South Atlantic snapper-grouper may not fish for or retain vermilion snapper in the South Atlantic prior to 12:01 a.m., local time, May 1, 2011, and must have landed and bartered, traded, or sold such vermilion snapper prior to 12:01 a.m., local time, May 8, 2011.

During the closure, the bag limit and possession limits specified in 50 CFR 622.39(d)(1)(v) and (d)(2), respectively, apply to all harvest or possession of vermilion snapper in or from the South Atlantic EEZ, and the sale or purchase of vermilion snapper taken from the EEZ is prohibited. The prohibition on sale or purchase does not apply to sale or purchase of vermilion snapper that were harvested, landed ashore, and sold prior to 12:01 a.m., local time, May 8, 2011, and were held in cold storage by a dealer or processor. For a person on board a vessel for which a Federal commercial or charter vessel/headboat permit for the South Atlantic snapper-grouper fishery has been issued, the sale and purchase provisions of the commercial closure for vermilion snapper would apply regardless of whether the fish are harvested in state or Federal waters, as specified in 50 CFR 622.43(a)(5)(ii).

Classification

This action responds to the best available information recently obtained from the commercial sector. The Assistant Administrator for Fisheries, NOAA, (AA), finds good cause to waive the requirement to provide prior notice and opportunity for public comment pursuant to the authority set forth at 5 U.S.C. 553(b)(B). Allowing prior notice and opportunity for public comment on the reopening is unnecessary because the rule establishing the January 1 through June 30 quota has already been subject to notice and comment, and all that remains is to notify the public that additional harvest is available under the established quota and, therefore, the commercial sector will reopen for a limited time period.

For the aforementioned reasons, the AA also finds good cause to waive the 30-day delay in the effectiveness of this action under 5 U.S.C. 553(d)(3).

This action is taken under 50 CFR 622.43(c) and is exempt from review under Executive Order 12866.

Authority: 16 U.S.C. 1801 et seq.

Dated: April 21, 2011.
James P. Burgess,
Acting Director, Office of Sustainable Fisheries, National Marine Fisheries Service.

[FR Doc. 2011-10035 Filed 4-21-11; 4:15 pm]

BILLING CODE 3510-22-P